DEPARTMENT OF AGRICULTURE

Farm Service Agency

Information Collection; Transfer of Farm Records Between Counties

AGENCY: Farm Service Agency, USDA.

ACTION: Notice; request for comments.

SUMMARY: In accordance with the Paperwork Reduction Act of 1995, the Farm Service Agency (FSA) is seeking comments from interested individuals and organizations on an extension of a currently approved information collection associated with transferring of farm records from one administrative county office to another.

DATES: Comments on this notice must be received on or before May 27, 2008 to be assured consideration.

ADDRESSES: Comments concerning this notice should be addressed to Farm Service Agency, USDA, Attn: Alison Groenwoldt, Agricultural Program Specialist, Common Provisions Branch, 1400 Independence Ave., SW., Washington, DC 20250. Comments should also be sent to the Desk Officer for Agriculture, Office of Information and Regulatory Affairs, Office of Management and Budget, Washington, DC 20503. Comments also may be submitted by e-mail to: alison.groenwoldt@wdc.usda.gov.

FOR FURTHER INFORMATION CONTACT: Alison Groenwoldt, Agricultural Program Specialist, (202) 720-4213 and alison.groenwoldt@wdc.usda.gov.

SUPPLEMENTARY INFORMATION:

Description of Information Collection

Title: Transfer of Farm Records Between Counties.

OMB Control Number: 0560-0253.

Type of Request: Extension with no revision.

Abstract: Farm owners or operators may elect to transfer farm records between counties when the principal dwelling of the farm operator has changed, a change has occurred in the operation of the land, or a change has occurred that would cause the receiving administrative county office to be more accessible such as a new highway and relocation of the county office building site. The transfer of farm records is also required when an FSA county office closes. FSA County Committees from both the transferring and receiving county must approve or disapprove all proposed farm transfers. In some cases, the State Committee and/or the National Office must also approve or disapprove proposed farm transfers.

Estimate of Burden: Public reporting burden for this collection of information is estimated to average 10 minutes per response. The average travel time, which is included in the total annual burden, is estimated to be 1 hour per respondent.

Type of Respondents: Owners and operators.

Estimated Number of Respondents: 25,000.

Estimated Number of Responses per Respondent: 1.

Estimated Total Annual Burden on Respondents: 29,175 hours.

Comment is invited on:

(1) Whether the collection of information is necessary for the proper performance of the functions of the agency, including whether the information will have practical utility;

(2) The accuracy of the agency's estimate of the burden of the proposed collection of information, including the validity of the methodology and assumptions used;

(3) Ways to enhance the quality, utility and clarity of the information to be collected; or

(4) Ways to minimize the burden of the collection of the information on those who are respond through the use of appropriate automated, electronic or mechanical, collection techniques; or other forms of information technology.

All comments received in response to this notice, including names and addresses when provided, will be a matter of public record. Comments will be summarized and included in the submission for Office of Management and Budget Approval.

Signed at Washington, DC, on March 19, 2008.
Teresa C. Lasseter,
Administrator, Farm Service Agency.

[FR Doc. E8-5984 Filed 3-24-08; 8:45 am]

BILLING CODE 3410-05-P